DEPARTMENT OF COMMERCE

Economic Development Administration

Notice of Petitions by Producing Firms for Determination of Eligibility To Apply for Trade Adjustment Assistance

AGENCY: Economic Development Administration (EDA), Department of Commerce (DOC).

ACTION: Notice and opportunity for public comment.

Pursuant to section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment Assistance for the Period October 19, 2005 Through November 4, 2005
Firm | Address | Date petition accepted | Product
Rudolph Instruments, Inc. | 400 Morris Avenue, Suite 120, Denville, NJ 07834 | 19-Oct-05 | Optoelectronic analytical testing instruments.
Cisco Brothers, Corp. | 1933 W. 60th Street, Los Angeles, GA 90047 | 19-Oct-05 | Upholstered couches and chairs.
AmeriStar Manufacturing Inc. | 2600 9th Avenue, Mankato, MN 56001 | 25-Oct-05 | Metal stamping and custom sheet metal fabrications.
Engineered Plastics Corp. | W 142 N9078 Fountain Boulevard, Menomonee Falls, WI 53051 | 25-Oct-05 | Injection molding of plastic components.
Ford Tool & Machining, Inc. | 2205 Range Road, Rockford, IL 61111 | 25-Oct-05 | Custom-made tooling for die casting machines.
The Glove Corp. | 301 N. Harrison Street, Alexandria, IN 46001 | 26-Oct-05 | Lined gloves of leather and lined gloves of wool.
Alloy Hardfacing and Engineering Co., Inc | 20425 Johnson Memorial Drive, Jordan, MN 55352 | 26-Oct-05 | Engineering and manufacturing of process equipment for the food related industries.
Rudolph Instruments, Inc. | 400 Morris Avenue, Suite 120, Denville, NJ 07834 | 26-Oct-05 | Optoelectronic analytical testing instruments.
Contour Tool Works, Inc. | 10 W. Waltz Drive, Wheeling, IL 60090 | 26-Oct-05 | Engineering and manufacturing of molds, custom tooling and precision components from plastic injection molding.
Actaris U.S. Liquid Measurement, Inc. | 1310 Emerald Road, Greenwood, SC 29646 | 26-Oct-05 | Manufacturer and distributor of flow and fluid meters and meter systems for all utility sectors.
SMW, Inc. | 2606 Gregory Street, Savannah, GA 31404 | 27-Oct-05 | Manufacturer and distributor of wooden millwork, standard and running trim, custom entries, windows, pre-hung doors and cabinets.
Specialty Fastening Systems, Inc. | 424 S. Baggett Street, Prairie Grove, AR 72753 | 27-Oct-05 | Manufacturer of nails.
Scott G. Williams, LLC | 2111 General Arts Road, Conyers, GA 30012 | 27-Oct-05 | Manufacturer and distributor of inorganic fertilizer nutrients and trace additives of zinc, boron, sulfur and manganese.
Package Machinery Company, Inc. | 380 Union Street, #58, West Springfield, MA 01089 | 31-Oct-05 | Wrapping machinery and injection molding machines.
In-Land Technologies Service, Inc. | 700 B and H Industrial Court, Millstadt, IL 62260 | 31-Oct-05 | Manufacturer of industrial process control panels and industrial process control systems.
Shaffer Sportswear Mfg., Inc. | 224 N. Washington Street, Neosho, MO 64850 | 4-Nov-05 | Sports uniforms.
Hearthstone Enterprises, Inc. | 251 Industrial Park Drive, Boone, NC 28607 | 4-Nov-05 | Metal household furniture.

Any party having a substantial interest in the proceedings may request a public hearing on the matter. A written request for a hearing must be submitted to the Office of Chief Counsel, Room 7005, Economic Development Administration, U.S. Department of Commerce, Washington, DC 20230, no later than ten calendar days following publication of this notice. Please follow the procedures set forth in § 315.9 of EDA's interim final rule (70 FR 47002) for procedures for requesting a public hearing. The Catalog of Federal Domestic Assistance official program number and title of the program under which these petitions are submitted is 11.313, Trade Adjustment Assistance.

Dated: November 7, 2005.
Benjamin Erulkar,
Chief Counsel.

[FR Doc. 05-22528 Filed 11-10-05; 8:45 am]

BILLING CODE 3510-24-P